DEPARTMENT OF COMMERCE

Foreign-Trade Zones Board

[B-88-2013]

Foreign-Trade Zone (FTZ) 183—Austin, Texas; Notification of Proposed Production Activity; Flextronics America, LLC (Automatic Data Processing Machines); Austin, Texas

Flextronics America, LLC (Flextronics) submitted a notification of proposed production activity to the FTZ Board for its facility in Austin, Texas. The notification conforming to the requirements of the regulations of the FTZ Board (15 CFR 400.22) was received on September 20, 2013.

A separate application for zone status at the Flextronics facility will be processed under Section 400.38 of the Board's regulations. The facility is used for the machining, assembly, programming, testing, packaging, final stage processing and repair of automatic data processing machines. Pursuant to 15 CFR 400.14(b), FTZ activity would be limited to the specific foreign-status materials and components and specific finished products described in the submitted notification (as described below) and subsequently authorized by the FTZ Board.

Production under FTZ procedures could exempt Flextronics from customs duty payments on the foreign status components used in export production. On its domestic sales, Flextronics would be able to choose the duty rate during customs entry procedures that applies to automatic data processing machines (duty-free) for the foreign status inputs noted below. Customs duties also could possibly be deferred or reduced on foreign status production equipment.

The components and materials sourced from abroad include: gaskets; input/output assemblies; electromagnetic interference support walls; bumpers; adhesives; sleeves; rubber bushings; screws; alignment and connector pins; spacers; locking pin screws; springs; clips; shields; standoffs; lock clamps; fans; input/output structural wall subassemblies; spring latch buttons; exhaust rub rail adhesives; AC inlet, busbar, button, cover, mechanism, shielding, CPU stiffener, inlet, roof and shroud assemblies; mechanism bases; storage; busbars; button dim links; electromagnetic interference fans and fan tops; exhaust finishes; heat sinks; upper ring housing gaskets; WiFi flex holder finishes; connector brackets; frames; holders; insulators; link torsion; manifold exhausts; stiffeners; subassemblies; thermal pads; insert mold torsion bars; torsion springs; vapor chambers; power supplies; housing magnets; speakers; antenna assemblies; printed circuit boards; flexible printed circuit board assemblies; backer, switch and button subassemblies; connectors; printed circuit board assemblies; WiFi interposers; and, cables (duty rate ranges from duty-free to 8.6%).

Public comment is invited from interested parties. Submissions shall be addressed to the Board's Executive Secretary at the address below. The closing period for their receipt is November 12, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: September 25, 2013.
Andrew McGilvray,
Executive Secretary.

[FR Doc. 2013-23779 Filed 9-30-13; 8:45 am]

BILLING CODE 3510-DS-P